FEDERAL TRADE COMMISSION

Advisory Committee on Online Access and Security

AGENCY: Federal Trade Commission.

ACTION: Notice of meeting on April 28, 2000.

SUMMARY: Pursuant to section 10(a)(2) of the Federal Advisory Committee Act, 5 U.S.C. App. sec. 10(a)(2), and 16 CFR 16.9(a), notice is hereby given that the Federal Trade Commission Advisory Committee on Online Access and Security will hold a meeting on Friday, April 28, 2000, from 8:00 a.m. to 4:00 p.m. in Room 432, Federal Trade Commission, 600 Pennsylvania Avenue, NW, Washington, DC 20580. The meeting is open to the public and will include a period for public comment. The purpose of the Advisory Committee is to provide advice and recommendations to the Commission regarding implementation of certain fair information practices by domestic commercial Web sites—specifically, providing online consumers reasonable access to personal information collected from and about them, and maintaining adequate security for that information. Interested parties may submit comments concerning any matter to be considered at the meeting by following the procedures described below.

DATES: The Advisory Committee will meet on Friday, April 28, 2000, from 8 a.m. to 4 p.m.

ADDRESSES: The meeting will take place in Room 432, Federal Trade Commission, 600 Pennsylvania Avenue, NW, Washington, DC 20580.

FOR FURTHER INFORMATION CONTACT: Allison I. Brown, Division of Financial Practices, Federal Trade Commission, 600 Pennsylvania Avenue, NW, Mail Stop 4429, Washington, DC 20580, telephone (202) 326-3079, email aibrown@ftc.gov; or Ellen R. Finn, Division of Financial Practices, Federal Trade Commission, 600 Pennsylvania Avenue, N.W., Mail Stop 4429, Washington, DC 20580, telephone (202) 326-3296, email efinn@ftc.gov.

Authority: 15 U.S.C. 41 et seq.; 5 U.S.C. App. secs. 1-15; 16 C.F.R. Part 16.

The fourth meeting of the Federal Trade Commission Advisory Committee on Online Access and Security will be held on Friday, April 28, 2000, in Room 432, Federal Trade Commission, 600 Pennsylvania Avenue, NW, Washington, DC from 8 a.m. to 4 p.m.

The Advisory Committee will continue to consider the costs and benefits, to both consumers and businesses, of implementing the fair information practices of access and security with respect to personal information collected for and about consumers online. The Advisory Committee will also continue consideration of the parameters of reasonable access to personal information and adequate security and will present options for implementation of these information practices in a report to the Commission.

The tentative agenda for the fourth meeting is as follows:

1. Administrative matters.

2. Discussion of draft report submitted by subgroups on issues relating to “reasonable access”.

3. Discussion of draft report submitted by subgroup on issues relating to “adequate security”.

4. Public Comment.

5. Discussion of tasks and assignments.

The meeting is open to the public.

Submission of Documents:

Interested parties who wish to submit comments on the meeting agenda or questions for consideration by the Advisory Committee should send an original and two copies in advance of the meeting to the Secretary, Federal Trade Commission, Room H-159, 600 Pennsylvania Avenue, NW, Washington, DC 20580. All comments and questions should be captioned—Advisory Committee on Online Access and Security “ Comment, P004807.” To enable prompt review and public access, paper submissions should be accompanied by a version on diskette in ASCII, WordPerfect (please specify version) or Microsoft Word (please specify version) format. Diskettes should be labeled with the name of the submitter, the Advisory Committee caption, and the name and version of the word processing program used to create the document.

Alternatively, comments or questions may be submitted to the following email address: advisorycommittee@ftc.gov; if submitted by email, only one copy of the comment or question is required. The email should contain the name of the submitter, the Advisory Committee caption, and, if a document is attached, the name and version of the word processing program used to create the document.

Comments to the Advisory Committee will be accepted through 5 p.m. Eastern time on April 28, 2000. To ensure that comments are processed properly, individuals submitting comments should be sure to use the above addresses. All comments will be posted on the Advisory Committee's Web page at www.ftc.gov/acoas as soon as reasonably possible, and likely within 5 business days of receipt. Individuals submitting comments should check the Advisory Committee's Web page to confirm receipt of the comment.

By direction of the Commission.
Donald S. Clark,
Secretary of the Commission.

[FR Doc. 00-9265 Filed 4-12-00; 8:45 am]

BILLING CODE 6750-01-P